DEPARTMENT OF HOUSING AND URBAN DEVELOPMENT

[Docket Nos. FR-4546-FA-02, FR-4560-FA-17, and FR-4595-FA-02]

Announcement of Funding Awards for Fiscal Year 2000 Public and Indian Housing—Section 8 Housing Vouchers Assistance Programs

AGENCY: Office of the Assistant Secretary for Public and Indian Housing, HUD

ACTION: Announcement of funding awards.

SUMMARY: In accordance with Section 102(a)(4)(C) of the Department of Housing and Urban Development Reform Act of 1989, this announcement notifies the public of funding awards for Fiscal Year 2000 (FY 2000) to housing agencies and non-profit agencies under the Section 8 Housing Vouchers Assistance programs. The purpose of this notice is to publish the names and addresses of the award winners and the amount of the awards made available by HUD to provide rental assistance to very low income families.

FOR FURTHER INFORMATION CONTACT: Michael Diggs, Director, Grants Management Center, Office of Public and Indian Housing, Department of Housing and Urban Development, 501 School Street, SW, Suite 800, Washington, DC 20024, telephone 202-358-0273 (this is not a toll-free number). For the hearing-or speech-impaired, these numbers may be accessed via TTY (text telephone) by calling the Federal Information Relay Service at 1-800-877-8339.

SUPPLEMENTARY INFORMATION: The regulations governing Section 8 Housing Vouchers Assistance programs are published at 24 CFR part 982. The regulations for allocating housing assistance budget authority under section 213 (d) of the Housing and Community Development Act of 1974 are published at 24 CFR part 791, subpart D.

The purpose of the Section 8 Housing Voucher Assistance programs is to assist eligible families to pay the rent for decent, safe, and sanitary housing. The FY 2000 awards announced in this notice were selected for funding consistent with the provisions in the Super Notice of Funding Availability (SuperNOFA) published in the Federal Register on February 24, 2000 (65 FR 9963, 9977, 9985) and the NOFAs published on March 30, 2000 (65 FR 17114) and July 24, 2000 (65 FR 45688).

The February 24, 2000 SuperNOFA made vouchers available to: (a) persons with disabilities in support of designated housing allocation plans; (b) non-elderly disabled families in connection with certain housing choice vouchers project based developments where the owner has established a preference for admission of elderly households; and (c) persons with disabilities under the Mainstream housing program.

The March 30, 2000 NOFA made available Family Self Sufficiency (FSS) Coordinator funds to hire and/or continue salaries for FSS program coordinators.

The July 24, 2000 NOFA made available vouchers for the Family Unification Program to assist families for whom the lack of adequate housing is a primary factor in the separation, or imminent separation of children from their families

A total of $134,073,223 in budget authority for 13,143 vouchers was awarded to recipients. A total of $21,883,015 in budget authority was awarded for FSS program coordinators.

The catalog of Federal Domestic Assistance numbers for these programs are 14.855 and 14.871.

In accordance with section 102 (a) (4) (C) of the Department of Housing and Urban Development Reform Act of 1989 (103 Stat. 1987, 42 U.S.C. 3545), the Department is publishing the names, addresses, and amounts of those awards as shown in Appendix A.

Dated: March 30, 2001.
Gloria J. Cousar,
Acting General Deputy Assistant Secretary, Public and Indian Housing.

APPENDIX A

Recipients of Housing Choice Vouchers—Certain Developments Funding Awards for FY 2000
Applicant name | Address | City | State | Zip | Vouchers | Amount
San Diego Housing Commission | 1625 Newton Avenue | San Diego | California | 92113 | 200 | $1,249,810
Colorado Department of Human Services | 4131 S. Julian Way | Denver | Colorado | 80236 | 200 | 785,600
Bernalillo County Housing Department | 620 Lomas Boulevard NW | Albuquerque | New Mexico | 87102 | 169 | 897,255
Jefferson Metropolitan Housing Authority | 815 North Sixth Street | Steubenville | Ohio | 43952 | 200 | 717,498
Cuyahoga Metropolitan Housing Authority | 1441 West 5th Street | Cleveland | Ohio | 44113 | 200 | 1,016,730
Licking Metropolitan Housing Authority | 85 West Church Street | Newark | Ohio | 43055 | 30 | 165,262
Brown Metropolitan Housing Authority | 200 South Green Street | Georgetown | Ohio | 45121 | 7 | 27,086
Columbus Metropolitan Housing Authority | 960 E. Fifth Avenue | Columbus | Ohio | 43201 | 200 | 1,000,070
Hancock Metropolitan Housing Authority | 604 Lima Avenue | Findlay | Ohio | 45840 | 200 | 663,452
Middletown Public Housing | 128 City Center Mall | Middletown | Ohio | 45042 | 200 | 889,206
Accomack-Northampton Regional Housing Authority | P.O. Box 387, 23372 Front Street | Accomac | Virginia | 23301 | 75 | 381,851
Housing Authority of the City of Longview | 1207 Commerce Avenue | Longview | Washington | 98632 | 200 | 773,820

Recipient of Housing Choice Vouchers—Designated Housing Funding Awards for FY 2000
Applicant name | Address | City | State | Zip | Vouchers | Amount
Mobile Housing Board | 151 South Claiborne Street, P.O. Box 1345 | Mobile | Alabama | 36633 | 122 | $524,489
Manchester Housing Authority | 24 Bluefield Drive | Manchester | Connecticut | 06049 | 36 | 231,044
Housing Authority of the Town of Vernon | 21 Court Street | Vernon | Connecticut | 06066 | 15 | 89,030
Windsor Locks Housing Authority | 41 Oak Street | Windsor Locks | Connecticut | 06096 | 32 | 200,850
Housing Authority of the Town of Greenwich | P.O. Box 141 | Greenwich | Connecticut | 06836 | 78 | 709,667
Naugatuck Housing Authority | 16 Ada Street | Naugatuck | Connecticut | 06700 | 20 | 124,883
Housing Authority of Brevard County | 615 Kurek Court | Merrit Island | Florida | 32953 | 200 | 1,005,970
Housing Authority New Albany | 500 Scribner Drive, P.O. Box 11 | New Albany | Indiana | 47151 | 200 | 890,850
Housing Opportunities Commission of Montgomery | 10400 Detrick Avenue | Kensington | Maryland | 20895 | 200 | 1,785,476
Dearborn Housing Commission | 13615 Michigan Avenue | Dearborn | Michigan | 48126 | 50 | 261,422
North Las Vegas Housing Authority | 1632 Yale Street | North Las Vegas | Nevada | 89030 | 71 | 484,744
City of Las Vegas Housing Authority | P.O. Box 1897 | Las Vegas | Nevada | 89125 | 200 | 1,365,476
Housing Authority of the City of Millville | P.O. Box 803, 122 East Main Street | Millville | New Jersey | 08332 | 30 | 216,278
New York City Housing Authority | 250 Boadway | New York | New York | 10007 | 200 | 1,455,938
Licking Metropolitan Housing Authority | 85 West Church Street | Newark | Ohio | 43055 | 30 | 165,262
Oklahoma City | 1700 Northeast Fourth Street | Oklahoma City | Oklahoma | 73117 | 200 | 825,028
Lehigh County Housing Authority | 635 Broad Street | Emmaus | Pennsylvania | 18049 | 190 | 913,898
Harrisburg Housing Authority | 351 Chestnut Street, P.O. Box 3461 | Harrisburg | Pennsylvania | 17105 | 150 | 752,531
Chattanooga Housing Authority | 505 West M.L. King Boulevard | Chattanooga | Tennessee | 37402 | 100 | 450,709
Metropolitan Development & Housing Agency | 701 South Sixth Street, P.O. Box 846 | Nashville | Tennessee | 37202 | 200 | 1,092,338
Housing Authority County of King | 15455 65th Avenue South | Seattle | Washington | 98188 | 200 | 1,456,978
Huntington, WV Housing, Authority | P.O. Box 2183 | Huntington | West Virginia | 25722 | 56 | 216,231

Recipients of Housing Choice Vouchers—Family Self Sufficiency Program Funding Awards for FY 2000
Applicant name | Address | City | State | Zip | Amount
Walker County Housing Authority | 2084 Horsecreek Blvd., P.O. Box 607 | Dora | Alabama | 35062 | $22,384
Florence Housing Authority | 303 North Pine Street | Florence | Alabama | 35630 | 39,830
Housing Authority of the City of Montgomery | 1020 Bell Street | Montgomery | Alabama | 36104 | 28,600
Decatur Housing Authority | P.O. Box 878, 100 Wilson Street, NE | Decatur | Alabama | 35602 | 30,867
Housing Authority of Bessemer | 1515 Fairfax Avenue, P.O. Box 1390 | Bessemer | Alabama | 35021 | 24,994
Jefferson County Housing Authority | 3700 Industrial Parkway | Birmingham | Alabama | 35217 | 32,376
Huntsville Housing Authority | 200 Washington Street, P.O. Box 486 | Huntsville | Alabama | 35804 | 29,580
Housing Authority of the Birmingham District | 1826 3rd Avenue, P.O. Box 55906 | Birmingham | Alabama | 35255 | 47,700
Housing Authority of the City of Leeds | P.O. Box 513 | Leeds | Alabama | 35094 | 27,634
Tuscaloosa Housing Authority | 2808 10th Avenue, P.O. Box 2281 | Tuscaloosa | Alabama | 35403 | 41,032
Housing Authority of the City of Prichard | P.O. Box 10307 | Prichard | Alabama | 36610 | 37,455
Housing Authority of Jacksonville | 100 Roebuck Manor | Jacksonville | Alabama | 36265 | 29,826
Housing Authority of the City of Uniontown | P.O. Box 1160 | Uniontown | Alabama | 36786 | 24,661
Ozark Housing Authority | P.O. Box 566 | Ozark | Alabama | 36361 | 30,638
Alaska Housing Finance Corporation | 4300 Boniface Parkway, P.O. Box 101020 | Anchorage | Alaska | 99510 | 47,700
City of Mesa Housing Authority | 415 North Pasadena | Mesa | Arizona | 85201 | 44,640
City of Phoenix Housing Department | 830 East Jefferson Street | Phoenix | Arizona | 85034 | 47,529
Chandler Housing and Redevelopment Division | P.O. Box 101, Mail Stop 101 | Chandler | Arizona | 85244 | 40,459
Tucson Housing Management Division | Family Self Sufficiency, P.O. Box 27210 | Tucson | Arizona | 85726 | 47,700
Scottsdale Housing Authority | 7522 E. 1st Street | Scottsdale | Arizona | 85251 | 36,275
Mohave County Housing Authority | 201 N. Fourth Street, P.O. Box 7000 | Kingman | Arizona | 86402 | 32,839
City of Yuma Housing Authority | 1350 W. Colorado Street | Yuma | Arizona | 85364 | 40,510
Housing Authority of the City of Little Rock | 1000 Wolfe Street | Little Rock | Arkansas | 72202 | 30,900
Lee County Housing Authority | 100 West Main | Marianna | Arkansas | 72360 | 21,366
Siloam Springs Housing Authority | P.O. Box 280, 2802 Highway 412 East | Siloam Springs | Arkansas | 72761 | 26,430
Wynne Housing Authority | P.O. Box 552 | Wynne | Arkansas | 72396 | 22,959
Conway Housing Authority | 335 S. Mitchell | Conway | Arkansas | 72032 | 26,336
Pulaski County Housing Agency | Administration Building, Suite, 201 South Broadway | Little Rock | Arkansas | 72201 | 26,372
White River Regional Housing Authority | P.O. Box 650 | Melbourne | Arkansas | 72556 | 30,800
Harrison Public Housing Agency | P.O. Bix 1715, 710 N. Robinson | Harrison | Arkansas | 72601 | 45,064
Jonesboro Urban Renewal & Housing Authority | 330 Union Street | Jonesboro | Arkansas | 72401 | 25,900
Fort Smith/Sebastian County Housing Authority | 2100 North 31st Street | Ft. Smith | Arkansas | 72904 | 30,208
Housing Authority of the City of Pine Bluff | P.O. Box 8872 | Pine Bluff | Arkansas | 71611 | 24,050
St. Francis County Housing Authority | P.O. Box 310, 116 A. Izard | Forest City | Arkansas | 72336 | 21,990
Hope Housing Authority | 720 Texas Street | Hope | Arkansas | 71801 | 24,965
Northwest Regional Housing Authority | 114 Sisco Avenue, P.O. Box 2568 | Harrison | Arkansas | 72601 | 36,578
Mississippi County Public Facilities Board | 810 W. Keiser | Osceola | Arkansas | 72370 | 31,532
Housing Authority of the City of Arkadelphia | 670 South Sixth Street | Arkadelphia | Arkansas | 71823 | 32,800
West Memphis Housing Authority | 2820 Harrison | West Memphis | Arkansas | 72301 | 29,918
North Little Rock Housing Authority | P.O. Box 516, 2501 Willow Street | North Little Rock | Arkansas | 72115 | 35,735
Universal Housing Development Corporation—Pope County | Universal Housing, 301 East Third Street, | Russellville | Arkansas | 72811 | 31,897
City of Madera Housing Authority | 205 North G Street | Madera | California | 93637 | 35,338
Housing Authority of the City of Napa | 1115 Seminary Street, P.O. Box 660 | Napa | California | 94559 | 47,590
Housing Authority of the City of Alameda | 701 Atlantic Avenue | Alameda | California | 94501 | 23,870
Oceanside Housing Authority | 300 North Coast Highway | Oceanside | California | 92054 | 47,700
Norwalk Housing Authority | 12035 Firestone Boulevard, P.O. Box 1030 | Norwalk | California | 90651 | 47,658
City of Santa Rosa Housing & Redevelopment | 90 Santa Rosa Avenue, P.O. Box 1806 | Santa Rosa | California | 95402 | 47,700
Yuba County Housing Authority | 938 14th Street | Marysville | California | 95901 | 37,500
Riverside County Housing Authority | 5555 Arlington Avenue | Riverside | California | 92504 | 47,000
The City of Oxnard Housing Authority | 300 North Marquita Street | Oxnard | California | 93030 | 47,700
San Diego County Housing Authority | 3989 Ruffin Road | San Diego | California | 92123 | 47,700
Housing Authority of the City of Upland | 1226 North Campus Avenue | Upland | California | 91786 | 32,481
County of Monterey Housing Authority | 123 Rico Street | Salinas | California | 93907 | 46,350
City of Roseville Housing & Redevelopment | 405 Vernon Street #1 | Roseville | California | 95678 | 45,794
City of Vacaville | 40 Eldridge Avenue, Suite 2 | Vacaville | California | 95688 | 47,700
Culver City Housing Authority | 9770 Culver Boulevard | Culver City | California | 90232 | 22,090
City of Garden Grove Housing Authority | 11400 Stanford Avenue, P.O. Box 3070 | Garden Grove | California | 92842 | 47,700
City of Benicia Housing Authority | 28 Riverhill Drive | Benicia | California | 94510 | 47,700
City of Los Angeles Housing Authority | 2600 Wilshire Boulevard | Los Angeles | California | 90057 | 47,700
County of Butte Housing Authority | 580 Vallombrosa Avenue | Chico | California | 95926 | 39,184
County of Shasta Housing Authority | 1670 Market Street, Suite 300 | Redding | California | 96001 | 38,611
City of Vallejo Community Development Department | P.O. Box 1432, 251 Georgia St | St. Vallejo | California | 94590 | 47,700
Santa Paula Housing Authority | 15500 West Telegraph Road, B-11, P.O. Box 404 | Santa Paula | California | 93061 | 47,700
Yolo County Housing Authority | 1224 Lemen Avenue, P.O. Box 1867 | Woodland | California | 95776 | 32,735
Housing Authority of the County of Kern | 525 Roberts Lane | Bakersfield | California | 93308 | 47,700
City of Berkeley Housing Authority | 1901 Fairview Street | Berkeley | California | 94703 | 47,700
California Department of Housing and Community | 1800 Third Street, Suite 390, P.O. Box 952054 | Sacramento | California | 94252 | 46,671
Carlsbad Housing Authority | 2965 Roosevelt Street, Suite | Carlsbad | California | 92008 | 28,620
Glendale Housing Authority | 613 E. Broadway, Room 200 | Glendale | California | 91206 | 44,420
Area Housing Authority of Ventura County | 1400 W. Hillcrest Avenue | Newbury Park | California | 91320 | 41,516
Lakewood Housing Authority | 5050 Clark Avenue | Lakewood | California | 90712 | 46,350
Orange County Housing Authority | 1770 North Broadway | Santa Ana | California | 92706 | 47,700
Community Service Department of El Dorado County | 937 Spring Street | Placerville | California | 95667 | 42,752
Housing Authority of the County of Kings | P.O. Box 255, 680 N. Douty Street | Hanford | California | 93232 | 42,956
Housing Authority for the City of Santa Barbara | 808 Laguna Street | Santa Barbara | California | 93101 | 47,700
County of Marin Housing Authority | 4020 Civic Center Drive | San Rafael | California | 94903 | 47,700
San Francisco Housing Authority | 440 Turk Street | San Francisco | California | 94102 | 47,700
Santa Ana Housing Authority | 20 Civic Center Plaza, P.O. Box 1988 | Santa Ana | California | 92702 | 47,700
Los Angeles County Housing Authority | 2 Coral Circle | Monterey Park | California | 91755 | 46,350
County of Merced Housing Authority | 405 U Street | Merced | California | 95340 | 45,814
San Bernadino County Housing Authority | 1953 North D Street | San Bernardino | California | 92410 | 47,700
San Luis Obispo Housing Authority | 487 Leff Street, P.O. Box 1289 | San Luis Obispo | California | 93406 | 47,630
County of San Mateo Housing Authority | 264 Harbor Blvd, Building A | Belmont | California | 94002 | 46,350
Housing Authority of Alameda County | 22941 Atherton Street | Hayward | California | 94541 | 44,817
Sonoma County Housing Authority | 1440 Guerneville Road | Santa Rosa | California | 95403 | 47,700
San Diego Housing Commission | 1625 Newton Avenue | San Diego | California | 92113 | 47,700
Housing Authority of the City of Santa Monica | 2121 Cloverfield Boulevard | Santa Monica | California | 90404 | 47,700
City of Redding Housing Authority | 777 Cypress Avenue | Redding | California | 96001 | 47,224
County of San Joaquin Housing | P.O. Box 447 | Stockton | California | 95201 | 42,998
City of Fairfield Housing Authority | 823B Jefferson Street | Fairfield | California | 94533 | 43,213
Housing Authority of the County of Stanislaus | P.O. Box 581918, 1701 Roberton Road | Modesto | California | 95358 | 47,700
City of Sacramento Housing Authority | P.O. Box 1834 | Sacramento | California | 95812 | 30,728
Anaheim Housing Authority | 201 S. Anaheim Boulevard, Second Floor | Anaheim | California | 92805 | 47,700
Nevada County Housing Authority | 10433 Willow Valley Road, Suite C | Nevada City | California | 95959 | 32,447
County of Solano Housing Authority | 601 Texas Street | Fairfield | California | 94533 | 46,528
Housing Authority of the City of Englewood | 3460 S. Sherman, Suite 101 | Englewood | Colorado | 80110 | 42,214
Colorado Division of Housing | 1313 Sherman Street, Room— | Denver | Colorado | 80203 | 47,380
Housing Authority of the City of Aurora | 10745 East Kentucky Avenue | Aurora | Colorado | 80012 | 28,392
Boulder County Housing Authority | 2040 14th Street | Boulder | Colorado | 80302 | 41,950
Colorado Department of Human Services | 4131 South Julian Way | Denver | Colorado | 80236 | 46,944
Lakewood Housing Authority | 445 South Allison Parkway | Lakewood | Colorado | 80226 | 36,466
Garfield County | 2128 Railroad Avenue | Rifle | Colorado | 81650 | 37,066
Jefferson County Housing Authority | 6025 West 38th Avenue | Wheat Ridge | Colorado | 80033 | 36,466
Housing Authority of the City of Loveland | 375 W. 37th St., Suite 200 | Loveland | Colorado | 80538 | 24,544
Adams County Housing Authority | 7190 Colorado Boulevard | Commerce City | Colorado | 80022 | 42,564
Arvada Housing Authority | 8001 Ralston Road | Arvada | Colorado | 80002 | 36,466
Ansonia Housing Authority | 36 Main Street | Ansonia | Connecticut | 06401 | 46,128
Housing Authority of the City of Meriden | 22 Church Street, P.O. Box 911 | Meriden | Connecticut | 06451 | 39,562
Connecticut Department of Social Services | 555 Windsor Street | Hartford | Connecticut | 06120 | 40,190
Milford Housing Authority | 75 DeMario Drive, P.O. Box 291 | Milford | Connecticut | 06460 | 37,080
Housing Authority of Bridgeport | 150 Highland Avenue | Bridgeport | Connecticut | 06604 | 40,170
District of Columbia Housing Authority | 1133 North Capitol Street | Washington, DC | District of Columbia | 20002 | 47,700
Panama City Housing Authority | 804 East 15th Street | Panama City | Florida | 32405 | 27,053
Tallahassee Housing Authority | 2940 Grady Road | Tallahassee | Florida | 32312 | 36,936
Broward County Housing Authority | 1773 North State Road 7 | Lauderhill | Florida | 33313 | 26,437
Deerfield Beach Housing Authority | 425 Northwest First Terrace | Deerfield Beach | Florida | 33441 | 37,791
Gainesville Housing Authority | 1900 S.E. 4th Street, P.O. Box 1468 | Gainesville | Florida | 32602 | 38,293
Walton County Housing Authority | 161 E. Sloss Avenue, P.O. Box 1258 | DeFuniak Springs | Florida | 32435 | 38,146
Hialeah Housing Authority | 70 East 7th Street | Hialeah | Florida | 33010 | 19,988
Housing Authority of Fort Lauderdale | 437 Southwest 4th Avenue | Fort Lauderdale | Florida | 33315 | 41,184
Housing Authority of Palm Beach County | 3432 West 45th Street | West Palm Beach | Florida | 33407 | 35,750
Housing Authority of the City of Orlando | 300 Reves Court | Orlando | Florida | 32801 | 44,685
Hernando County Housing Authority | 20 N. Main Street, Room 205 | Brooksville | Florida | 34601 | 38,325
Clearwater Housing Authority | 210 Ewing Avenue | Clearwater | Florida | 33756 | 35,908
City of Pensacola Department of Housing | 180 Governmental Center, P.O. Box 12910 | Pensacola | Florida | 32521 | 33,103
Housing Authority of the City of Daytona Beach | 118 Cedar Street | Daytona Beach | Florida | 32114 | 36,117
Hollywood Housing Authority | 7300 N. Davie Road, | Hollywood | Florida | 33024 | 14,608
Housing Authority of West Palm Beach | 3801 Georgia Avenue | West Palm Beach | Florida | 33405 | 33,434
Pasco County Housing Authority | 14517 7th Street | Dade City | Florida | 33523 | 38,132
Housing Authority of Fort Pierce | 707 North 7th Street | Fort Pierce | Florida | 34950 | 45,511
Housing Authority of Boca Raton | 201 West Palmetto Park Road | Boca Raton | Florida | 33432 | 29,638
Housing Authority of Tampa | 601 Kennedy Blvd | Tampa | Florida | 33601 | 30,165
Housing Authority of the City of Lakeland | P.O. Box 1009 | Lakeland | Florida | 33802 | 46,337
Housing Authority of Brevard County | 615 Kurek Court, P.O. Box 540338 | Merritt Island | Florida | 32954 | 32,561
Ocala Housing Authority | 233 SW 3rd Street, P.O. Box 2468 | Ocala | Florida | 34478 | 46,550
Housing Authority of Atlanta | 1720 Peachtree Street NW, Suite 500 | Atlanta | Georgia | 30309 | 35,808
Jonesboro Housing Authority | P.O. Box 459 | Jonesboro | Georgia | 30237 | 33,527
Housing Authority of Brunswick | 1126 Albany Street, P.O. Box 1118 | Albany | Georgia | 31521 | 31,046
Georgia Department of Community Affairs | 60 Executive Park South, NE | Atlanta | Georgia | 30329 | 38,477
City of Marietta Housing Authority | 205 Lawrence Street | Marietta | Georgia | 30060 | 46,621
Housing Authority of Fulton County | 10 Park Place SE, Suite 550 | Atlanta | Georgia | 30303 | 41,620
Albany Housing Authority | P.O. Box 485 | Albany | Georgia | 31702 | 28,659
Guam Housing and Urban Renewal Authority | 117 Bien Venida Avenue | Sinajana | Guam | 96926 | 26,177
County of Kauai Housing Authority | 4444 Rice Street, Suite 235 | Kauai | Hawaii | 96766 | 46,859
Boise City Housing Authority | 680 Cunningham Place | Boise | Idaho | 83702 | 43,792
Ada County Housing Authority | 680 Cunningham Place | Boise | Idaho | 83702 | 42,603
SW Idaho Cooperative Housing Authority | 1108 West Finch Drive | Nampa | Idaho | 93651 | 32,136
Idaho Housing & Finance Association | P.O. Box 7899, 565 West Myrtle Street | Boise | Idaho | 83707 | 47,700
Chicago Housing Authority | 626 West Jackson Boulevard | Chicago | Illinois | 60661 | 47,638
Elgin Housing Authority | 222 S. Winnebago St. | Rockford | Illinois | 61102 | 38,960
Springfield Housing Authority | 200 North 11th Street | Springfield | Illinois | 62703 | 47,700
Madison County Housing Authority | 1609 Olive | Collinsville | Illinois | 62234 | 40,726
Housing Authority of the County of Cook | 310 South Michigan, 15th Floor | Chicago | Illinois | 60604 | 47,380
Peoria Housing Authority | 100 S. Sheridan Road | Peoria | Illinois | 61605 | 32,701
Kendall County Housing Authority | 500A Countryside Center | Yorkville | Illinois | 60560 | 9,544
Housing Authority of the City of East St. Louis | 700 North 20th Street | East St. Louis | Illinois | 62205 | 37,778
Housing Authority of Waukegan | 215 South Utica Street | Waukegan | Illinois | 60085 | 39,801
Rockford Housing Authority | 223 S. Winnebago Street | Rockford | Illinois | 61102 | 46,404
McHenry County Housing Authority | 1108 N. Seminary, P.O. Box 1109 | Woodstock | Illinois | 60098 | 20,080
Housing Authority of Bloomington | P.O. Box 1815 | Bloomington | Indiana | 47402 | 33,354
City of Indianapolis | Five Indiana Square | Indianapolis | Indiana | 46204 | 37,741
Hammond Housing Authority | 7329 Columbia Circle West | Hammond | Indiana | 46324 | 36,909
Indiana Department of Human Services | MS 01, 402 W. Washington, P.O. Box 6116 | Indianapolis | Indiana | 46206 | 47,700
Housing Authority of the City of Evansville | 500 Court Street | Evansville | Indiana | 47708 | 34,452
Knox County Housing Authority | 11 Powell Street | Bicknell | Indiana | 47512 | 20,085
South Bend Housing Authority | 501 Alonzo Watson Drive, P.O. Box 11057 | South Bend | Indiana | 46634 | 33,948
Housing Authority of the City of Elkhart | 1396 Benham Avenue | Elkhart | Indiana | 46516 | 26,523
Housing Authority of the City of Kokomo | 210 East Taylor Street, P.O. Box 1207 | Kokomo | Indiana | 46903 | 32,467
Logansport Housing Authority | 417 North Street, Suite 102 | Logansport | Indiana | 46947 | 25,144
Gary Housing Authority | 578 Broadway | Gary | Indiana | 46402 | 32,380
Housing Authority of the County of Delaware | 2401 South Haddix Avenue | Muncie | Indiana | 47302 | 33,475
Marion Housing Authority | 601 South Adams | Marion | Indiana | 46953 | 31,866
The Housing Authority of the City of Goshen | Munciple Building Annex, 302 South Fifth Street | Goshen | Indiana | 46528 | 39,677
Vincennes Housing Authority | 501 Hart Street, P.O. Box 1636 | Vincennes | Indiana | 47591 | 18,565
Housing Authority of the City of Terre Haute | P.O. Box 3086 | Terre Haute | Indiana | 47803 | 47,528
Housing Authority of Peru | 701 East Main Street | Peru | Indiana | 46970 | 28,505
Housing Authority for the City of Lafayette | 100 Executive Drive, Suite A | Lafayette | Indiana | 47903 | 33,771
Housing Authority of the City of Columbus | 799 McClure Road | Columbus | Indiana | 47201 | 40,693
Fort Wayne Housing Authority—City of Fort Wayne | 2013 South Anthony Blvd., P.O. Box 13489 | Fort Wayne | Indiana | 46869 | 36,532
Muncie Housing Authority | 409 First Street | Munice | Indiana | 47302 | 24,709
Upper Explorerland Regional Housing Authority | 134 W. Greene Street, P.O. Box 219 | Postville | Iowa | 52162 | 40,856
Ottumwa Housing Authority | 102 West Finley Avenue | Ottumwa | Iowa | 52501 | 35,881
Region XII Regional Housing Authority | 108 West 6th Street, Box 663 | Carroll | Iowa | 51401 | 33,456
Eastern Iowa Regional Housing Authority | Suite 330, Nesler Centre, P.O. Box 1140 | Dubuque | Iowa | 52004 | 44,210
Iowa City Housing Authority | 410 East Washington Street | Iowa City | Iowa | 52240 | 44,904
Fort Dodge Housing Authority | 700 South 17th Street | Fort Dodge | Iowa | 50501 | 42,406
City of Cedar Rapids | 1211 Sixth Street SW | Cedar Rapids | Iowa | 52404 | 39,647
Waterloo Housing Authority Carnegie Annex | 620 Mulberry Street | Waterloo | Iowa | 50703 | 44,100
Northwest Iowa Regional Housing Authority | 919 2nd Avenue SW, Box 446 | Spencer | Iowa | 51301 | 36,568
Central Iowa Regional Housing | 1111 Ninth Street, Suite 390 | Des Moines | Iowa | 50314 | 45,682
Dubuque Department of Human Rights | 1805 Central Avenue | Dubuque | Iowa | 52001 | 31,572
Sioux City Housing Authority | P.O. Box 447, 405 6th Street, Room 107 | Sioux City | Iowa | 51104 | 43,346
Southern Iowa Regional Housing Authority | 219 N. Pine Street | Creston | Iowa | 50801 | 33,780
Municipal Housing Agency | 505 South 6th Street | Council Bluffs | Iowa | 51501 | 33,693
Iowa Northland Regional Housing Authority | 2530 University Avenue, Suite | Waterloo | Iowa | 50701 | 39,393
Atchison Housing Authority | 103 S. 7th Street | Atchinson | Kansas | 66002 | 13,251
Ford County Housing Authority | 240 Saan Jose Drive, P.O. Box 1636 | Dodge City | Kansas | 67801 | 26,250
Wichita Housing Authority | 307 N. Riverview | Wichita | Kansas | 67203 | 47,700
Lawrence Housing Authority | 1600 Haskell Avenue | Lawrence | Kansas | 66044 | 30,205
East Central Kansas Economic Opportunity Commission | 602 South Maple, P.O. Box 100 | Ottawa | Kansas | 66067 | 29,891
Sek-Cap, Inc | 401 North Sinnet, P.O. Box 128 | Girard | Kansas | 66743 | 12,605
Northeast Kansas Community Action Program, Inc | P.O. Box 380 | Hiawatha | Kansas | 66434 | 32,480
Chanute Housing Authority | 110 S. Ronda Lane | Chanute | Kansas | 66720 | 13,889
City of Topeka City Hall | 2010 SE California Ave | Topeka | Kansas | 66607 | 32,298
Greenup County Housing Authority/Appalachian FootHills | 114 Riverside Boulevard | Wurtland | Kentucky | 41144 | 22,131
Floyd County Housing Authority | 36 Blaine Hall Street, Apt. 37 | Prestonburg | Kentucky | 41653 | 33,290
Campbellsville Housing Authority | P.O. Box 597 | Campbellsville | Kentucky | 42719 | 24,932
Cumberland Valley Regional Housing Authority | P.O. Box 806 | Barbourville | Kentucky | 40906 | 47,700
Cynthiana Housing Authority | 149 Federal Street, P.O. Box 351 | Cynthiana | Kentucky | 41031 | 44,756
Jefferson County Housing Authority | 801 Vine Street | Louisville | Kentucky | 40204 | 40,856
Pineville/Bell County C.D.A | P.O. Drawer 460 | Pinesville | Kentucky | 40977 | 15,276
Newport Housing Authority | P.O. Box 459 | Newport | Kentucky | 41072 | 29,599
Lexington-Fayette Urban County Housing Authority | 300 W. New Circle Road At Russell Cave Road | Lexington | Kentucky | 40505 | 36,322
Louisville Housing Authority | 420 South 8th Street | Louisville | Kentucky | 40203 | 47,700
Henderson Housing Authority | 111 South Adams Street | Henderson | Kentucky | 42420 | 31,721
Bowling Green C.D.A. | 1017 College Street, P.O. Box 430 | Bowling Green | Kentucky | 42102 | 39,990
Pike County Housing Authority | 510 Trivette Drive, P.O. Box 1468 | Pikeville | Kentucky | 41502 | 30,231
Georgetown Housing Authority | 139 Scroggin Park | Georgetown | Kentucky | 40324 | 11,940
Kentucky Housing Corporation | 1231 Louisville Road | Frankfort | Kentucky | 40601 | 34,178
Boone County Fiscal Court | P.O. Box 536 | Burlington | Kentucky | 41005 | 35,079
Somerset Housing Authority | P.O. Box 449 | Somerset | Kentucky | 42502 | 29,300
City of Paducah Housing Authority | City Hall P.O. Box 2267 | Paducah | Kentucky | 42001 | 33,589
Housing Authority of the City of Lafayette | 100 C.O. Circle | Lafayette | Louisiana | 70501 | 31,394
Webster Parish Police Jury | Post Office Box 876 | Minden | Louisiana | 71058 | 22,423
Desoto Parish Police Jury | P.O. Box 898 | Mansfield | Louisiana | 71052 | 14,568
Bienville Parish Police Jury | 100 Courthouse Drive, Room, P.O. Box 479 | Arcadia | Louisiana | 71001 | 14,528
Washington Parish Housing Authority, Sec. 8 Program | 25074 Hwy. 21, Village | Angie | Louisiana | 70426 | 17,628
Jefferson Parish Housing Authority, Sec. 8 Program | 1718 Betty Street | Marrero | Louisiana | 70072 | 46,020
Winn Parish Police Jury, Sec. 8 | 301-B West Main Street | Winnfield | Louisiana | 71483 | 22,382
Lincoln Parish Police Jury | P.O. Box 979 | Ruston | Louisiana | 71273 | 14,528
Portland Housing Authority | 14 Baxter Boulevard | Portland | Maine | 04104 | 47,700
Maine State Housing Authority | 353 Water Street | Augusta | Maine | 04330 | 45,481
City of Caribou Housing Agency | Municipal Building, 25 High Street | Caribou | Maine | 04736 | 34,973
Housing Authority of the City of Westbrook | 30 Liza Harmon Drive | Westbrook | Maine | 04092 | 47,700
Augusta Housing Authority | 33 Union Street, Suite 3 | Augusta | Maine | 04330 | 23,196
Old Town Housing Authority | P.O. Box 404, 165 So. Main Street | Old Town | Maine | 04468 | 37,961
St. Mary's County Housing Authority | 23115 Leonard Hall Drive, P.O. Box 653—Governmental | Leonardtown | Maryland | 20650 | 47,700
Calvert County Housing Authority | 150 Main Street, Suite 101, P.O. Box 2509 | Prince Frederick | Maryland | 20678 | 38,395
Maryland Department of Housing and Community Development | 100 Community Place | Crownsville | Maryland | 21032 | 25,750
Housing Authority of Prince George's County | 9400 Peppercorn Place | Largo | Maryland | 20774 | 47,700
Montgomery County Housing Authority | 3930 Knowles Avenue, Suite | Kensington | Maryland | 20895 | 47,700
Rockville Housing Enterprises | 14 Moore Drive | Rockville | Maryland | 20850 | 43,379
Frederick Housing Authority | 209 Madison Street | Frederick | Maryland | 21701 | 41,504
Carroll County Bureau of Housing and Community | 10 Distillery Drive, First Floor, Suite 101 | Westminster | Maryland | 21157 | 34,326
Housing Authority of the City of Hagerstown | 35 W. Baltimore Street | Hagerstown | Maryland | 21740 | 40,039
Harford County Housing Agency | 15 South Main Street, Suite | Bel Air | Maryland | 21014 | 44,023
Milford Housing Authority | 45 Birmingham Court | Milford | Massachusetts | 01757 | 14,046
Somerville Housing Authority | 30 Memorial Road | Somerville | Massachusetts | 02145 | 44,558
Massachusetts Department of Housing and Community | One Congress Street | Boston | Massachusetts | 02114 | 46,350
Brockton Housing Authority | 45 Goddard Road, P.O. Box 7070 | Brockton | Massachusetts | 92303 | 46,467
Leominster Housing Authority | 100 Main Street | Leominster | Massachusetts | 01453 | 42,887
Greenfield Housing Authority | 1 Elm Terrace | Greenfield | Massachusetts | 01301 | 41,715
Shrewsbury Housing Authority | 36 No. Quinsigamond Avenue | Shrewsbury | Massachusetts | 01545 | 25,515
Melrose Housing Authority | 910 Main Street | Melrose | Massachusetts | 02176 | 27,705
Peabody Housing Authority | Suite 2, 75 Central Avenue | Peabody | Massachusetts | 01960 | 36,835
Methuen Housing Authority | 24 Mystic Street | Methuen | Massachusetts | 01844 | 20,085
Danvers Housing Authority | 14 Stone Street | Danvers | Massachusetts | 01923 | 23,517
Mansfield Housing Authority | 22 Bicentennial Court | Mansfield | Massachusetts | 02048 | 25,591
North Andover Housing Authority | One Morkeski Meadows, P.O. Box 373 | North Andover | Massachusetts | 01845 | 26,204
Medford Housing Authority | 121 Riverside Avenue | Medford | Massachusetts | 02155 | 47,700
North Attleborough Housing Authority | P.O. Box 668 | N. Attleborough | Massachusetts | 02761 | 18,604
Wakefield Housing Authority | 26 Crescent Street | Wakefield | Massachusetts | 01880 | 21,820
Tewksbury Housing Authority | Saunders Circle | Tewksbury | Massachusetts | 01876 | 16,686
Reading Housing Authority | 22 Frank D. Tanner | Reading | Massachusetts | 01867 | 28,110
Gloucester Housing Authority | P.O. Box 1599 | Gloucester | Massachusetts | 01931 | 36,324
Quincy Housing Authority | 80 Clay Street | Quincy | Massachusetts | 02170 | 45,395
Plymouth Housing Authority | 69 Allerton Street, P.O. Box 3537 | Plymouth | Massachusetts | 02361 | 27,144
Acton Housing Authority | 68 Windsor Avenue, P.O. Box 681 | Acton | Massachusetts | 01720 | 33,208
Chelmsford Housing Authority | 10 Wilson Street | Chelmsford | Massachusetts | 01824 | 25,548
Framingham Housing Authority | 1 John J. Brady Drive | Framingham | Massachusetts | 01702 | 47,700
Brookline Housing Authority | 90 Longwood Avenue | Brookline | Massachusetts | 02446 | 47,405
Avon Housing Authority | One Fellowship Circle | Avon | Massachusetts | 02322 | 23,764
Lynn Housing Authority | 10 Church Street | Lynn | Massachusetts | 01902 | 47,272
Lowell Housing Authority | 350 Moody Street, P.O. Box 60 | Lowell | Massachusetts | 01853 | 47,700
Holyoke Housing Authority | Administration Building, 475 Maple Street | Holyoke | Massachusetts | 01040 | 43,260
Norwood Housing Authority | 40 William Shyne Circle | Norwood | Massachusetts | 02062 | 39,985
Gardner Housing Authority | 116 Church Street | Gardner | Massachusetts | 01440 | 44,176
Braintree Housing Authority | 25 Roosevelt Street | Braintree | Massachusetts | 02184 | 13,520
Saugus Housing Authority | 19 Talbot Street | Saugus | Massachusetts | 01906 | 35,636
Holbrook Housing Authority | One Holbrook Court | Holbrook | Massachusetts | 02343 | 27,500
Salem Housing Authority | 27 Charter Street | Salem | Massachusetts | 01970 | 46,428
Hanson Housing Authority | Meetinghouse Lane | Hanson | Massachusetts | 02341 | 25,127
Kent County Housing Commission | 741 East Beltline Avenue, NE | Grand Rapids | Michigan | 49525 | 43,454
Traverse City Housing Commission | 10200 East Carter Centre | Traverse City | Michigan | 49684 | 29,128
The City of Westland Department of Housing and Community | 32715 Dorsey Road | Westland | Michigan | 48186 | 31,514
Saginaw Housing Commission | 2811 Davenport, Box A | Saginaw | Michigan | 48602 | 26,265
Grand Rapids Housing Commission | 1420 Fuller Avenue, SE | Grand Rapids | Michigan | 49507 | 45,658
South St. Paul Housing & Redevelopment Authority | 125 Third Avenue, North | South Saint Paul | Minnesota | 55075 | 44,084
South Central Multi-County HRA | 410 Jackson Street, Suite 100 | Mankato | Minnesota | 56001 | 31,958
Northwest Minnesota Multi-County HRA | P.O. Box 128 | Mentor | Minnesota | 56736 | 33,765
Scott County Housing & Redevelopment Authority | 323 South Naumkeag Street | Shakopee | Minnesota | 55379 | 16,421
Duluth Housing & Redevelopment Authority | 222 East Second Street, P.O. Box 16900 | Duluth | Minnesota | 55816 | 41,741
St. Louis Park Housing & Redevelopment Authority | 5005 Minnetonka Boulevard | St. Louis Park | Minnesota | 55416 | 22,087
Washington County Housing & Redevelopment Authority | 321 Broadway Avenue | Saint Paul Park | Minnesota | 55701 | 23,985
Plymouth Housing & Redevelopment Authority | 3400 Plymouth Boulevard | Plymouth | Minnesota | 55447 | 15,008
Southeastern Minnesota Multi-County HRA | 134 East Second Street | Wabasha | Minnesota | 55981 | 31,309
Metropolitan Council Housing & Redevelopment Authority | 230 East Fifth Street | St. Paul | Minnesota | 55101 | 27,543
Mississippi Regional Housing Authority VI | P.O. Drawer 8746 | Jackson | Mississippi | 39284 | 45,597
North Delta Regional Housing Authority | 4 East Second, P.O. Drawer 1148 | Clarksdale | Mississippi | 38614 | 30,128
Biloxi Housing Authority | P.O. Box 447 | Biloxi | Mississippi | 39533 | 21,115
Tennessee Valley Regional Housing Authority | P.O. Box 1329 | Corinth | Mississippi | 38835 | 24,907
Mississippi Regional Housing Authority V | 110 Broad Street, P.O. Box 419 | Newton | Mississippi | 39345 | 28,925
Mississippi Regional Housing Authority IV | P.O. Box 1051 | Columbus | Mississippi | 39703 | 27,604
Long Beach Housing Authority | P.O. Box 418 | Long Beach | Mississippi | 39560 | 19,055
Mississippi Regional Housing Authority VIII | P.O. Box 2347 | Gulfport | Mississippi | 39505 | 39,307
Mississippi Regional Housing Authority VII | P.O. Box 430, 405 Maryland Avenue | McComb | Mississippi | 39648 | 23,698
Jasper County Public Housing Authority | 305 Virginia, P.O. Box 207 | Joplin | Missouri | 64802 | 24,228
Springfield Housing Authority | 421 West Madison Street | Springfield | Missouri | 65806 | 25,021
Kansas City Housing Authority | 299 Paseo | Kansas City | Missouri | 64106 | 36,082
Housing Authority of St. Louis County | 8865 Natural Bridge, P.O. Box 23886 | St. Louis | Missouri | 63121 | 30,982
St. Charles Housing Authority | 1041 Olive Street | St. Charles | Missouri | 63301 | 31,712
Franklin County Public Housing Agency | P.O. Box 920 | Hillsboro | Missouri | 63050 | 30,831
St. Francois County Public Housing Agency | 1111 Linden Avenue, P.O. Box 658 | Cape Girardeau | Missouri | 63601 | 23,868
Lincoln County Public Housing Agency | 16 North Court Street, P.O. Box 470 | Bowling Green | Missouri | 63334 | 21,840
Ripley County Public Housing Agency | P.O. Box 1183, 3019 Fair | Poplar Bluff | Missouri | 63902 | 26,690
St. Clair County Housing Authority | P.O. Box 125, 106 W. 4th Street | Appleton City | Missouri | 64724 | 29,930
Phelps County Public Housing Agency | #4 Industrial Drive | St. James | Missouri | 65559 | 24,265
Independence Housing Authority | 210 South Pleasant | Independence | Missouri | 64050 | 38,419
Liberty Housing Authority | 101 E. Kansas | Liberty | Missouri | 64068 | 31,827
Helena Housing Authority | 812 Abbey Street | Helena | Montana | 59601 | 47,378
Missoula Housing Authority | 1319 East Broadway | Missoula | Montana | 59802 | 31,518
Housing Authority of Billings | 2415 1st Avenue North | Billings | Montana | 59101 | 37,070
Northeast Nebraska Joint Housing Authority | P.O. Box 447 | Sioux City | Nebraska | 51102 | 30,580
Central Nebraska Joint Housing Authority | P.O. Box 509 | Loup City | Nebraska | 68853 | 26,184
Bellevue Housing Authority | 8214 Armstrong Circle | Bellevue | Nebraska | 68147 | 28,155
Kearney Housing Authority | 2715 Avenue I | Kearney | Nebraska | 68847 | 29,074
Goldenrod Joint Housing Authority | P.O. Box 280 | Wisner | Nebraska | 68791 | 29,176
Blair Housing Authority | 758 South 16th Street | Blair | Nebraska | 68008 | 15,748
Lincoln Housing Authority | P.O. Box 5327, 5700 R Street | Lincoln | Nebraska | 68505 | 33,062
Norfolk Housing Authority | 110 North 4th Street | Norfolk | Nebraska | 68701 | 29,907
Douglas County Housing Authority | 5404 North 107 Plaza | Omaha | Nebraska | 68134 | 33,247
County of Clark Housing Authority | 5390 East Flamingo Road | Las Vegas | Nevada | 89122 | 47,375
Housing Authority of the City of North Las Vegas | 1632 Yale Street | North Las Vegas | Nevada |  | 47,700
City of Las Vegas Housing Authority | P.O. Box 1897 | Las Vegas | Nevada | 89125 | 47,700
Dover Housing Authority | 62 Whittier Street | Dover | New Hampshire | 03820 | 12,872
New Hampshire Housing Finance Authority | P.O. Box 5087 | Manchester | New Hampshire | 03108 | 45,360
Manchester Housing and Redevelopment Authority | 198 Hanover Street | Manchester | New Hampshire | 03104 | 43,944
Nashua Housing Authority | Administrative Center, 101 Major Drive | Nashua | New Hampshire | 03060 | 35,580
Keene Housing Authority | 105 Castle Street | Keene | New Hampshire | 03431 | 37,444
Lakewood RAP Housing Authority | 600 W. Kennedy Boulevard, P.O. Box 856 | Lakewood | New Jersey | 08701 | 47,700
Millville Housing Authority | P.O. Box 803, 122 East Main St. | Millville | New Jersey | 08332 | 30,698
Montclair Housing Authority | 205 Claremont Avenue | Montclair | New Jersey | 07042 | 47,700
Fort Lee Housing Authority | 1403 Teresa Drive | Fort Lee | New Jersey | 07024 | 46,240
Dover Housing Authority | 215 East Blackwell Street | Dover | New Jersey | 07801 | 41,777
Passaic County Housing Authority | 401 Grand Street | Paterson | New Jersey | 07505 | 37,650
Brick Housing Authority | 165 Chambersbridge Road | Brick | New Jersey | 08723 | 47,483
Perth Amboy Housing Authority | 881 Amboy Avenue, P.O. Box 390 | Perth Amboy | New Jersey | 08862 | 40,695
County of Hunterdon Housing Authority | Administration Building, 71 Main Street | Flemington | New Jersey | 08822 | 46,332
City of Vineland Housing Authority | 191 Chestnut Avenue | Vineland | New Jersey | 08360 | 41,096
Lakewood Housing Authority | 317 Sampson Avenue, P.O. Box 1599 | Lakewood | New Jersey | 08701 | 44,130
Paterson Housing Authority | 60 Van Houten Street, P.O. Box “H” | Paterson | New Jersey | 07509 | 44,550
Jersey City Housing Authority | 514 Newark Avenue | Jersey City | New Jersey | 07396 | 46,350
Housing Authority of the Township of Neptune | 1810 Alberta Avenue | Neptune | New Jersey | 73277 | 38,268
New Jersey Department of Community Affairs | P.O. Box 051 | Trenton | New Jersey | 08625 | 46,756
Warren County Housing Authority | 415B Front Street | Belvidere | New Jersey | 07823 | 47,700
Housing Authority of the Township of Woodbridge | 20 Burns Lane | Woodbridge | New Jersey | 07095 | 44,010
Monmouth County Housing Authority | Hall of Records, Main Street | Freehold | New Jersey | 07728 | 47,700
Region IV Housing Authority | 418 North Main Street | Clovis | New Mexico | 88101 | 24,917
Clovis Housing Authority | 2101 W. Grand Ave., P.O. Box 1240 | Clovis | New Mexico | 88102 | 31,401
City of Alamogordo Housing Authority | P.O. Box 5336 104 Avenida Amigos | Alamogordo | New Mexico | 88311 | 24,606
Albuquerque Housing Authority | 1840 University Boulevard Se | Albuquerque | New Mexico | 87106 | 39,125
Socorro County Housing Authority | P.O. Box 00, 106 Center Street | Socorro | New Mexico | 87801 | 19,714
Truth or Consequences Housing Authority | 108 South Cedar | Truth or | New Mexico | 87901 | 29,825
Bernalillo County Housing Department | 620 Lomas Blvd. N.W. | Albuquerque | New Mexico | 87102 | 41,494
Santa Fe County Housing Authority | 102 Grant Street, P.O. Box 276 | Santa Fe | New Mexico | 87504 | 39,956
Santa Fe Civic Housing Authority | P.O. Box 4039 | Santa Fe | New Mexico | 87502 | 40,303
Town of Amherst Public Housing Authority | 1195 Main Street | Buffalo | New York | 14209 | 32,779
Poughkeepsie Housing Authority | 21 Charles Street, Building 4 | Poughkeepsie | New York | 12601 | 44,939
Housing Authority of Schenectady | 375 Broadway | Schenectady | New York | 12305 | 32,563
Housing Authority of Rochester | 140 West Avenue | Rochester | New York | 14611 | 37,622
Housing Authority of Gloversville | 181 West Street | Gloversville | New York | 12078 | 42,828
New York City Department of Housing Preservation | 100 Gold Street | New York | New York | 10038 | 47,000
City of Poughkeepsie | Municipal Building, P.O. Box 300 | Poughkeepsie | New York | 12601 | 37,645
Town of Rotterdam Housing Authority | 1100 Sunrise Boulevard | Rotterdam | New York | 12306 | 47,700
Albany Housing Authority | 4 Lincoln Square | Albany | New York | 12202 | 42,002
Housing Authority of Ithaca | 800 South Plain Street | Ithaca | New York | 14850 | 47,700
Housing Authority of Monticello | 76 Evergreen Drive | Monticello | New York | 12701 | 46,331
North Fork Housing Alliance, Inc | 110 South Street | Greenport | New York | 11944 | 37,500
Town of Yorktown | 363 Underhill Avenue, P.O. Box 703 | Yorktown Heights | New York | 10598 | 35,755
City of Port Jervis | 13-15 Jersey Avenue, P.O. Box 1002 | Port Jervis | New York | 12771 | 30,625
City of White Plains | Municipal Building Annex, 255 Main Street | White Plains | New York | 10601 | 18,540
New York State Division of Housing and Community Renewal | 25 Beaver Street | New York | New York | 10004 | 23,000
Housing Authority of New Rochelle | 50 Sickles Avenue | New Rochelle | New York | 10801 | 47,000
Plattsburgh Housing Authority | 39 Oak Street | Plattsburgh | New York | 12901 | 32,489
New York State Division of Housing and Community Renewal | Hampton Plaza 38-40 State | Albany | New York | 12207 | 23,000
Village of Kiryas Joel Housing Authority | Muncipal Building, 51 Forest Road, Suite 360 | Monroe | New York | 10950 | 47,700
Town of Guilderland Housing Authority | P.O. Box 339 | Guilderland | New York | 12084 | 45,310
City of Fulton | 125 West Broadway | Fulton | New York | 13069 | 28,750
Housing Authority of Cohoes | 100 Manor Sites, Administrative Building | Cohoes | New York | 12047 | 35,792
Town of Coeymans Housing Authority | 18 Russell Avenue | Ravena | New York | 12143 | 22,655
Town of Bethlehem Housing Authority | 445 Delaware Avenue | Delmar | New York | 12954 | 22,655
City of Buffalo | 470 Franklin Street | Buffalo | New York | 14202 | 40,170
Housing Authority of Amsterdam | 52 Division Street | Amsterdam | New York | 12010 | 44,334
Town of Colonie | Memorial Town Hall | Newtonville | New York | 12128 | 45,787
Housing Authority of Statesville | 110 West Allison Street | Statesville | North Carolina | 28677 | 42,662
Housing Authority of Winston-Salem | 901 Cleveland Avenue | Winston Salem | North Carolina | 27102 | 43,260
Raleigh Housing Authority | P.O. Box 28007, 600 Tucker Street | Raleigh | North Carolina | 27611 | 36,303
City of Concord Housing Department | P.O. Box 308, 283 Harold Goodman Circle | Concord | North Carolina | 28025 | 14,246
Rowan County Housing Authority | 310 Long Meadow Drive | Salisbury | North Carolina | 28147 | 33,168
Housing Authority of Rocky Mount | P.O. Box 4717 | Rocky Mount | North Carolina | 27803 | 32,083
Economic Improvement Council | P.O. Box 549 | Edenton | North Carolina | 27932 | 24,573
Town of East Spencer Housing Authority | P.O. Box 367 | East Spencer | North Carolina | 28039 | 38,114
Housing Authority of Wilmington | 508 South Front Street | Wilmington | North Carolina | 28402 | 36,657
Isothermal Planning and Development Agency | P.O. Box 841, 111 West Court Street | Rutherfordton | North Carolina | 28139 | 31,394
Sanford Housing Authority | 504 N. First Street, P.O. Box 636 | Sanford | North Carolina | 27331 | 29,080
Western Carolina Community Action, Inc | 526 Seventh Avenue East, P.O. Box 685 | Hendersonville | North Carolina | 28793 | 30,146
Chatham County Housing Authority | P.O. Box 637 | Pittsboro | North Carolina | 27312 | 23,226
Laurinburg Housing Authority | P.O. Box 1437, 1300 Woodlawn Street | Laurinburg | North Carolina | 28353 | 35,880
Macon Program for Progress | 104 E. Main Street, P.O. Box 700 | Franklin | North Carolina | 28744 | 14,869
Housing Authority Durham | P.O. Box 1726, 330 East Main Street | Durham | North Carolina | 27702 | 35,020
Housing Authority of Charlotte | P.O. Box 36795 | Charlotte | North Carolina | 28236 | 42,414
Twin Rivers Opportunity, Inc. | P.O. Box 1482, 318 Craven Street | New Bern | North Carolina | 28563 | 36,432
Housing Authority of Asheboro | 338 West Walnman Avenue, P.O. Box 609 | Asheboro | North Carolina | 27720 | 30,723
Northwestern Regional Housing Authority | P.O. Box 2510, 869 Highway 105 Extension | Boone | North Carolina | 28607 | 35,100
Mountain Projects, Inc | 2251 Old Balsam Road | Waynesville | North Carolina | 28786 | 29,920
Mideast Regional Housing Authority | P.O. Box 474, 809 Pennsylvania Avenue | Washington | North Carolina | 27889 | 23,272
Greensboro Housing Authority | 450 North Church Street, P.O. Box 21287 | Greensboro | North Carolina | 27420 | 45,940
Brunswick County Public, Housing Authority | P.O. Box 9, 60 Government Center Drive, | Bolivia | North Carolina | 28422 | 27,636
Housing Authority of the City of Asheville | 165 South French Broad, P.O. Box 1898 | Asheville | North Carolina | 28802 | 32,323
Stutsman County Housing Authorthy | 217 First Avenue North | Jamestown | North Dakota | 58401 | 24,808
Fargo Housing and Redevelopment Authority | P.O. Box 430 | Fargo | North Dakota | 58107 | 35,582
City of Grand Forks Housing Authority | 1405 1st. Avenue | Grand Forks | North Dakota | 58203 | 47,700
Minot Housing Authority | 310 Second Street SE | Minot | North Dakota | 58701 | 21,309
Bowling Green Housing Authority | 1044 Chelsea Avenue, | Napoleon | Ohio | 43545 | 27,860
Cuyahoga Metropolitan Housing Authority | 1441 West 25th Street | Cleveland | Ohio | 44113 | 38,732
Springfield Metropolitan Housing Authority | 437 E. John Street | Springfield | Ohio | 45505 | 36,377
Lucas Metropolitan Housing Authority | 435 Nebraska Avenue, P.O. Box 477 | Toledo | Ohio | 43697 | 38,453
Medina Metropolitan Housing Authority | 850 Walter Road | Medina | Ohio | 44256 | 32,023
Clermont Metropolitan Housing Authority | 65 South Market Street | Batavia | Ohio | 45103 | 21,896
Youngstown Metropolitan Housing Authority | 131 West Boardman Street | Youngstown | Ohio | 44503 | 33,910
Delaware Metropolitan Housing Authority | P.O. Box 1292 | Delaware | Ohio | 43015 | 40,518
Vinton Metropolitan Housing Authority | P.O. Box 487 | McArthur | Ohio | 45651 | 23,475
Zanesville Metropolitan Housing, Authority | 407 Pershing Road | Zanesville | Ohio | 43701 | 44,558
Columbus Metropolitan Housing Authority | 960 E. Fifth Avenue | Columbus | Ohio | 43201 | 44,565
Dayton Metropolitan Housing Authority | 400 Wayne Avenue | Dayton | Ohio | 45410 | 34,735
Logan County Metropolitan Housing Authority | 116 North Everett Street | Bellefontaine | Ohio | 43311 | 34,286
Erie Metropolitan Housing Authority | 322 Warren Street | Sandusky | Ohio | 44870 | 47,700
Warren Metropolitan Housing Authority | 990 East Ridge Drive | Lebanon | Ohio | 45036 | 28,509
Hancock Metropolitan Housing Authority | 604 Lima Avenue | Findlay | Ohio | 45840 | 20,081
Cincinnati Metropolitan Housing Authority | 1635 Western Avenue | Cincinnati | Ohio | 45214 | 47,700
Middletown Public Housing Agency | 128 City Centre Mall | Middletown | Ohio | 45042 | 22,825
Wayne Metropolitan Housing Authority | 200 South Market Street | Wooster | Ohio | 44691 | 37,278
Tuscarawas Metropolitan Housing Authority | 134 Second Street, SW | New Philadelphia | Ohio | 44663 | 43,658
Pickaway Metropolitan Housing Authority | 176 Rustic Drive | Circleville | Ohio | 43113 | 24,815
Meigs Metropolitan Housing Authority | 117 E. Memorial Drive | Pomeroy | Ohio | 45769 | 11,968
Akron Metropolitan Housing Authority | 100 West Cedar Street | Akron | Ohio | 44307 | 32,521
Lorain Metropolitan Housing Authority | 1600 Kansas | Loraine | Ohio | 44052 | 47,488
Cambridge Metropolitan Housing Authority | P.O. Box 1388, 1100 Maple Court | Cambridge | Ohio | 43725 | 29,250
Morgan Metropolitan Housing Authority | 4580 N. State Route 376 NW | McConnelsville | Ohio | 43756 | 17,500
Morrow Metropolitan Housing Authority | 81 North Rich Street | Mount Gilead | Ohio | 43338 | 32,415
Jackson County Housing Authority | P.O. Box 619, 249 W. Thirteenth Street | Wellston | Ohio | 45692 | 35,666
Portage Metropolitan Housing Authority | 2832 State Route 59 | Ravenna | Ohio | 44266 | 22,495
Allen Metropolitan Housing Authority | 600 South Main Street | Lima | Ohio | 45804 | 30,214
Chillicothe Metropolitan Housing Authority | 178 West Fourth Street | Chillicothe | Ohio | 45601 | 15,640
Fayette Metropolitan Housing Authority | 121 E. East Street | Washington C.H. | Ohio | 43160 | 23,301
Hamilton County Public Housing Authority | Room 507 County, 138 East Court Street | Cincinnati | Ohio | 45202 | 42,525
Jefferson Metropolitan Housing Authority | 815 North Sixth Street | Steubenville | Ohio | 43952 | 39,801
Broken Bow Housing Authority | 710 E. Third, P.O. Box 177 | Broken Bow | Oklahoma | 74728 | 16,912
Housing Authority of the City of Hugo | P.O. Box 727 300 13th Place | Hugo | Oklahoma | 74743 | 27,698
Housing Authority of the City of Muskogee | 220 North 40th Street | Muskogee | Oklahoma | 74401 | 36,410
Housing Authority of Shawnee | P.O. Box 3427, 601 West 7th Street | Shawnee | Oklahoma | 74802 | 40,486
Norman Housing Authority | 700 N. Berry Road | Norman | Oklahoma | 73069 | 37,785
Oklahoma City Housing Authority | 1700 Northeast Fourth Street | Oklahoma City | Oklahoma | 73117 | 22,326
Housing Authority of Tulsa | 415 East Independence, P.O. Box 6369 | Tulsa | Oklahoma | 74148 | 38,662
Oklahoma Housing Finance Agency | 1140 N. 63rd, Suite 200, P.O. Box 26720 | Oklahoma City | Oklahoma | 73126 | 39,776
Stillwater Housing Authority | 807 S. Lowry | Stillwater | Oklahoma | 74074 | 32,063
Northwest Oregon Housing Association | 1508 Exchange Street | Astoria | Oregon | 97103 | 28,251
Housing Authority of Washington County | 111 NE Lincoln Street, Suite MS 163 | Hillsboro | Oregon | 97124 | 44,652
Northeast Oregon Housing Authority | P.O. Box 3357, 2608 May Lane | LaGrande | Oregon | 97850 | 29,810
Coos-Curry Housing Authority | 1700 Monroe Street | North Bend | Oregon | 97459 | 35,672
Marion County Housing Authority | 3150 Lancaster Drive, NE, Suite D | Salem | Oregon | 97305 | 34,357
Klamath Housing Authority | P.O. Box 5110, 1445 Avalon | Klamath Falls | Oregon | 97601 | 22,394
Housing Authority of Yamhill County | 414 North East Evans Street, P.O. Box 865 | McMinnville | Oregon | 97128 | 37,592
Housing Authority & Community Services Agency of Lane County | 177 Day Island Road | Eugene | Oregon | 97401 | 47,700
Housing Authority of Lincoln County | 1039 N.W. Nye Street, P.O. Box 1470 | Newport | Oregon | 97365 | 29,842
Housing Authority of Jackson County | 2231 Table Rock Road | Medford | Oregon | 97501 | 30,729
Clackamas County Housing Authority | P.O. Box 1510, 13930 South Gain Street | Oregon City | Oregon | 97045 | 47,700
Mid-Columbia Housing Agency | 506 East Second Street | The Dalles | Oregon | 97058 | 28,022
Housing Authority of the City of Salem | 360 Church Street SE, P.O. Box 808 | Salem | Oregon | 97308 | 40,074
Housing Authority of Malheur County | 959 Fortner Street | Ontario | Oregon | 97914 | 21,811
Housing Authority of Douglas County | 902 West Staton Street | Roseburg | Oregon | 97470 | 31,022
Central Oregon Regional Housing Authority | 2445 SW Canal Blvd | Redmond | Oregon | 97756 | 33,200
Linn-Benton Housing Authority | 1250 Queen Avenue SE | Albany | Oregon | 97321 | 43,175
Housing Authority of Portland | 135 S.W. Ash Street, 5th Floor | Portland | Oregon | 97204 | 47,700
Northumberland County Housing Authority | 50 Mahoning Street | Milton | Pennsylvania | 17847 | 29,316
Harrisburg Housing Authority | 351 Chestnut Street, P.O. Box 3461 | Harrisburg | Pennsylvania | 17105 | 46,980
Butler County Housing Authority | 114 Woody Drive | Butler | Pennsylvania | 16001 | 38,674
York City Housing Authority | 30 South Broad Street, P.O. Box 1963 | York | Pennsylvania | 17405 | 37,232
Westmoreland County Housing Authority | R.D. #6, Box 223, South Greengate Road | Greensburg | Pennsylvania | 15601 | 40,329
Clarion County Housing Authority | 8 West Main Street | Clarion | Pennsylvania | 16214 | 34,557
Delaware County Housing Authority | 1855 Constitution Avenue, P.O. Box 100 | Woodlyn | Pennsylvania | 19094 | 25,214
Armstrong County Housing Authority | 350 South Jefferson Street | Kittanning | Pennsylvania | 16201 | 19,729
Housing Authority of the County of Chester | 30 West Barnard Street, 1st Floor | West Chester | Pennsylvania | 19382 | 44,992
Sunbury Housing Authority | Scott Tower, 705 Market, P.O. Box 458 | Sunbury | Pennsylvania | 17801 | 29,316
Montgomery County Housing Authority | 1875 New Hope Street | Norristown | Pennsylvania | 19401 | 34,380
Wilkes Barre Housing Authority | 50 Lincoln Plaza | Wilkes-Barre | Pennsylvania | 18702 | 41,223
Adams County Housing Authority | 139143 Carlisle Street | Gettysburg | Pennsylvania | 17325 | 38,604
Lancaster City Housing Authority | 325 Church Street | Lancaster | Pennsylvania | 17602 | 33,000
Housing Authority of the City of Pittsburgh | 200 Ross Street | Pittsburgh | Pennsylvania | 15219 | 36,050
Indiana County Housing Authority | 104 Philadelphia Street | Indiana | Pennsylvania | 15701 | 15,768
Centre County Housing Authority | 121 Beaver Farm Lane | Bellefonte | Pennsylvania | 16823 | 10,400
Montour County Housing Authority | One Beaver Place | Danville | Pennsylvania | 17821 | 47,470
Housing Authority of Union County | 1610 Industrial | Lewisburg | Pennsylvania | 17837 | 42,429
Cumberland County Housing Authority | 114 N. Hanover Street, Suite | Carlisle | Pennsylvania | 17013 | 15,193
Virgin Islands Housing Authority Charlotte Amalie | P.O. Box 7668 | St. Thomas, U.S. | Puerto Rico;Virgin | 80977 | 47,172
Municipality of Aguas Buenas | P.O. Box 128 | Aguas Buenas | Puerto Rico;Virgin | 00703 | 18,910
Cumberland Housing Authority | 573 Mendon Road, Suite 3 | Cumberland | Rhode Island | 02864 | 42,330
Central Falls Housing Authority | 30 Washington Street | Central Falls | Rhode Island | 02863 | 30,824
Pawtucket Housing Authority | 214 Roosevelt Avenue, P.O. Box 1303 | Pawtucket | Rhode Island | 02862 | 38,314
Coventry Housing Authority | 14 Manchester Circle | Coventry | Rhode Island | 02816 | 40,170
Narragansett Housing Authority | 25th Avenue, Town Hall | Narragansett | Rhode Island | 02882 | 37,766
Rhode Island Housing and Mortgage Finance Corporation | 44 Washington Street | Providence | Rhode Island | 02903 | 35,500
City of Spartanburg Housing Authority | P.O. Box 2828 | Spartanburg | South Carolina | 29304 | 35,802
Housing Authority of Greenwood | P.O. Box 973 | Greenwood | South Carolina | 29648 | 32,785
Columbia Housing Authority | 1917 Harden Street | Columbia | South Carolina | 29204 | 21,781
Housing Authority of Greenville | P.O. Box 10047 | Greenville | South Carolina | 29603 | 26,041
Housing Authority of the City of Charleston | 550 Meeting Street | Charleston | South Carolina | 29403 | 40,686
Anderson Housing Authority | 1335 East River Street | Anderson | South Carolina | 29624 | 32,173
Housing Authority of Myrtle Beach | P.O. Box 2468 | Myrtle Beach | South Carolina | 29578 | 40,019
Housing Authority of Beaufort | 1009 Prince Street, P.O. Box 1104 | Beaufort | South Carolina | 29901 | 21,846
Charleston County Housing and Redevelopment | P.O. Box 6188, 2106 Mt. Pleasant Street | Charleston | South Carolina | 29405 | 31,404
Sioux Falls Housing & Redevelopment Commission | 804 South Minnesota Avenue | Sioux Falls | South Dakota | 57104 | 37,864
Mobridge Housing & Redevelopment Commission | 116 4th Street W., P.O. Box 370 | Mobridge | South Dakota | 57006 | 32,991
Housing Authority of Oak Ridge | 10 Van Hicks Lane | Oak Ridge | Tennessee | 37830 | 31,297
East Tennessee Human Resource Agency | 9111 Cross Park Drive, Suite | Knoxville | Tennessee | 37923 | 31,230
Metropolitan Development & Housing Agency | 701 South Sixth Street | Nashville | Tennessee | 37202 | 47,700
Southeast Tennessee Human Resource Agency | 215 Rankin Avenue South, P.O. Box 909 | Dunlap | Tennessee | 37327 | 39,680
Crossville Housing Authority | 67 Irwin Avenue, P.O. Box 425 | Crossville | Tennessee | 38557 | 36,942
Kingsport Housing and Redevelopment Authority | 906 East Sevier Avenue, P.O. Box 44 | Kingsport | Tennessee | 37662 | 23,837
Housing Authority of Jackson | P.O. Box 3188, 125 Preston Street | Jackson | Tennessee | 38303 | 40,102
Housing Authority of the City of Corsicana | P.O. Box 1090 | Corsicana | Texas | 75151 | 40,397
Harris County Community Development Department | 8410 Lantern Point Drive | Houston | Texas | 77054 | 34,850
Anthony Public Housing Authority | P.O. Box 1710 | Anthony | Texas | 79821 | 25,763
Cameron County Housing Authority | 65 Castellano Circle | Brownsville | Texas | 78521 | 38,593
Midland County Housing Authority | 600 N. Baird Street, Suite A | Midland | Texas | 79701 | 36,930
Baytown Housing Authority | 805 West Nazro | Baytown | Texas | 77520 | 45,304
Central Texas Council of Governments | P.O. Box 729, 302 East Central | Belton | Texas | 76513 | 31,569
Housing Authority of the City of Houston | P.O. Box 2971 | Houston | Texas | 77252 | 26,651
Wichita Falls Housing Assistance Program | P.O. Box 1431 | Wichita Falls | Texas | 76307 | 31,693
Rosenberg Housing Authority | 927 Second Street | Rosenberg | Texas | 77471 | 20,600
Fort Worth Housing Authority | P.O. Box 430, 1201 East 13th Street | Fort Worth | Texas | 76101 | 40,528
Texoma Council of Governments | 3201 Texoma Parkway | Sherman | Texas | 75090 | 33,989
Deep East Texas Council of Governors (DETCOG) | 274 East Lamar Street | Jasper | Texas | 75951 | 31,316
Austin Housing Authority | 1640 East 2nd Street | Austin | Texas | 78702 | 33,421
Garland Housing Authority | 210 Carver Street, Suite 201B | Garland | Texas | 75040 | 40,619
City of Longview Housing Authority | P.O. Box 1952 | Longview | Texas | 75606 | 38,366
City of Mesquite Housing Authority | P.O. Box 850137 | Mesquite | Texas | 75185 | 23,026
Mission Housing Authority | 906 East 8th Street | Mission | Texas | 78572 | 17,503
Housing Authority of the City of El Paso | 5300 E. Paisano Drive | El Paso | Texas | 79995 | 32,573
Housing Authority of the City of Kingsville | P.O. Box 847, 100 West Corral | Kingsville | Texas | 78363 | 39,894
Beaumont Housing Authority | P.O. Box 1312 | Beaumont | Texas | 77708 | 32,208
Arlington Housing Authority | 501 W. Sanford Street | Arlington | Texas | 76011 | 42,067
Housing Authority of the City of Lubbock | P.O. Box 2568 | Lubbock | Texas | 79401 | 27,456
Plano Housing Authority | 1111 Avenue H, Building A | Plano | Texas | 75074 | 33,204
Housing Authority of the County of Hidalgo | 1800 N. Texas Boulevard | Weslaco | Texas | 78596 | 23,484
Housing Authority of the City of Brownsville | P.O. Box 4420 | Brownsville | Texas | 78523 | 22,994
Public Housing Authority of San Angelo | 115 West 1st Street | San Angelo | Texas | 76903 | 31,746
Montgomery County Housing Authority | 1022 McCall Street | Conroe | Texas | 77301 | 34,598
Housing Authority of Salt Lake City | 1776 South West Temple | Salt Lake City | Utah | 84115 | 24,799
Davis County Housing Authority | 352 South 22 West, Suite #1, P.O. Box 328 | Farmington | Utah | 84025 | 35,076
Utah County Housing Authority | 240 East Center Street | Provo | Utah | 84606 | 37,623
Provo City Housing Authority | 650 West 100 North | Provo | Utah | 84601 | 38,545
Housing Authority of the County of Salt Lake | 3595 So. Main | Salt Lake City | Utah | 84115 | 40,845
Vermont State Housing Authority | One Prospect Street | Montpelier | Vermont | 05602 | 44,052
Barre Housing Authority Emery Knoll | 4 Humbert Street | Barre | Vermont | 05641 | 24,800
Burlington Housing Authority | 230 St. Paul Street | Burlington | Vermont | 05401 | 36,076
Newport News Redevelopment & Housing Authority | P.O. Box 77 | Newport News | Virginia | 23607 | 47,700
Virginia Housing Development Authority | 601 South Belvidere Street | Richmond | Virginia | 23220 | 47,700
Waynesboro Redevelopment and Housing Authority | 1700 New Hope Road, P.O. Box 1138 | Waynesboro | Virginia | 22980 | 30,841
Lee County Redevelopment Housing Authority | P.O. Box 665 | Jonesville | Virginia | 24263 | 32,653
City of Virginia Beach Municipal Center Building | 2424 Courthouse Drive | Virginia Beach | Virginia | 23456 | 33,121
Chesapeake Redevelopment & Housing Authority | 1468 S. Military Highway | Chesapeake | Virginia | 23320 | 38,342
County of Albemarle Office of Housing | 401 McIntire Road | Charlottesville | Virginia | 22902 | 42,031
Norfolk Redevelopment & Housing Authority | P.O. Box 968 | Norfolk | Virginia | 23501 | 42,979
Housing Authority of Thurston County | 503 West 4th Avenue | Olympia | Washington | 98501 | 47,700
Housing Authority of the City of Longview | 1207 Commerce | Longview | Washington | 98632 | 29,917
Housing Authority of Asotin County | 1212 Fair Street | Clarkston | Washington | 99403 | 29,592
Housing Authority of Island County | 7 N.W. 6th Street | Coupeville | Washington | 98239 | 44,557
Bellingham Housing Authority | 208 Unity Street-Lower Level, P.O. Box 9701 | Bellingham | Washington | 98227 | 39,049
Housing Authority of the City of Everett | 3107 Colby, P.O. Box 1547 | Everett | Washington | 98206 | 36,102
Housing Authority of the City of Spokane | 55 W. Mission | Spokane | Washington | 99201 | 47,700
King County Housing Authority | 15455 65th Avenue South | Seattle | Washington | 98188 | 47,700
Housing Authority of the City of Pasco & Franklin County | 802 N. 1st Avenue | Pasco | Washington | 99301 | 36,010
Housing Authority of Grays Harbor County | 602 East First Street | Aberdeen | Washington | 98520 | 37,207
Housing Authority of the City of Yakima | 810 N 6th Avenue | Yakima | Washington | 98902 | 37,854
Kitsap County Consolidated Housing Authority | 9307 Bayshore Drive NW | Silverdale | Washington | 98383 | 45,186
Housing Authority of Snohomish County | 12625 4th Avenue, W., Suite | Everett | Washington | 98204 | 25,105
Pierce County Housing Authority | 603 South Polk Street, P.O. Box 45410 | Tacoma | Washington | 98445 | 41,783
Tacoma Housing Authority | 902 South L Street | Tacoma | Washington | 98405 | 39,187
Housing Authority of the County of Clallam | 2603 South Francis Street | Port Angeles | Washington | 98362 | 37,824
Seattle Housing Authority | 120 Sixth Avenue North | Seattle | Washington | 98109 | 47,700
Walla Walla Housing Authority | 501 Cayuse Street | Walla Walla | Washington | 99362 | 26,780
Housing Authority of Grant County | 1139 Larson Boulevard | Moses Lake | Washington | 98837 | 17,000
Housing Authority of the City of Bremerton | 110 Russell Road, P.O. Box 4460 | Bremerton | Washington | 98312 | 21,228
Housing Authority of the City of Kennewick | 1915 W. 4th Place, P.O. Box 6737 | Kennewick | Washington | 99336 | 31,724
Housing Authority of the City of Richland | 650 George Washington Way | Richland | Washington | 99352 | 28,579
Housing Authority of Greenbrier County | Rt. 2 Box 142 | Lewisburg | West Virginia | 24901 | 21,033
Housing Authority of the City of Buckhannon | 23 ½ Hinkle Drive | Buckhannon | West Virginia | 26201 | 20,518
Housing Authority of Mingo County | P.O. Box 1758 | Williamson | West Virginia | 25661 | 19,800
Benwood Housing Authority | Administration Building, 2200 Marshall Street | Brenwood | West Virginia | 26031 | 33,125
Kanawha County Housing Authority | P.O. Box 3826 | Charleston | West Virginia | 25338 | 33,768
Wheeling Housing Authority | 11 Community Street—Elm, P.O. Box 2089 | Wheeling | West Virginia | 26003 | 36,050
Beckley Housing Authority | P.O. Box 1780 | Beckley | West Virginia | 25802 | 22,620
Charleston Housing Authority | P.O. Box 86 | Charleston | West Virginia | 25321 | 31,184
Weirton Housing Authority | 525 Cove Road | Weirton West | Virginia | 26062 | 27,051
Housing Authority of Raleigh County | P.O. Box BD | Beckley | West Virginia | 25802 | 30,341
Huntington, WV Housing Authority P.O. Box 2183 | 30 Northcott Court | Huntington | West Virginia | 25722 | 31,896
Parkersburg Housing Authority | 1901 Cameron Avenue | Parkersburg | West Virginia | 26101 | 24,670
Kenosha Housing Authority | 625 52nd Street, Room 98 | Kenosha | Wisconsin | 53140 | 40,772
Appleton Housing Authority | 525 North Oneida Street | Appleton | Wisconsin | 54911 | 36,488
Walworth County Housing Authority | W3929 County NN | Elkhorn | Wisconsin | 53121 | 34,385
Housing Authority of the City of Superior | 1219 North Eighth Street | Superior | Wisconsin | 54880 | 38,632
Eau Claire County Housing Authority | 721 Oxford Avenue, Room, Eau claire County Courthouse | Eau Claire, | Wisconsin | 54703 | 36,100
Green Bay Housing Authority | 100 North Jefferson Street | Green Bay | Wisconsin | 54301 | 41,521
Waukesha Housing Authority | 120 Corrina Boulevard | Waukesha | Wisconsin | 53186 | 47,700
Dunn County Housing Authority | 1421 Stout Road | Menomonie | Wisconsin | 54751 | 34,879
Cheyenne Housing Authority | 3304 Sheridan Street | Cheyenne | Wyoming | 82009 | 25,661
Housing Authority of the City of Casper | 800 Werner Court, Suite 320 | Casper | Wyoming | 82604 | 20,875

Recipients of Housing Choice Vouchers—Family Unification Program Funding Awards for FY 2000
Applicant name | Address | City | State | Zip | Vouchers | Amount
Mobile Housing Board | 151 S. Claiborne Street, P.O. Box 1345 | Mobile | Alabama | 36633 | 100 | $429,909
Stuttgart Housing Authority | P.O. Box 569 | Stuttgart | Arkansas | 72160 | 50 | 158,502
Hope Housing Authority | 720 Texas Street | Hope | Arkansas | 71891 | 25 | 81,975
San Luis Obispo Housing Authority | 487 Leff Street | San Luis Obispo | California | 93401 | 50 | 280,783
Riverside County Housing Authority | 5555 Arlington Avenue | Riverside | California | 92504 | 100 | 500,340
San Diego County Housing Authority | 3989 Ruffin Road | San Diego | California | 92123 | 100 | 540,054
County of Fresno Housing Authority | P.O. Box 11985/1331 | Fresno | California | 93776 | 100 | 462,569
City of Fresno Housing Authority | P.O. Box 11985/1331 | Fresno | California | 93776 | 100 | 475,814
County of San Mateo Housing Authority | 264 Harbor Boulevard | Belmont | California | 94002 | 100 | 941,456
Santa Cruz County Housing Authority | 2160 41st Avenue | Capitola | California | 95010 | 73 | 697,221
Colorado Division of Housing | 1313 Sherman Street | Denver | Colorado | 80203 | 100 | 503,180
Grand Junction | 805 Main Street | Grand Junction | Colorado | 81505 | 50 | 239,186
State of Connecticut Department of Social Services | 25 Sigourney Street | Hartford | Connecticut | 06106 | 100 | 701,395
District of Columbia Housing Authority | 1133 North Capitol Street | Washington | District of Columbia | 20002 | 100 | 848,867
Miami Dade Housing Authority | 111 N.W. 1st Street 29th Floor | Miami | Florida | 33125 | 100 | 659,169
Housing Authority of Brevard County | 615 Kurek Court | Merritt Island | Florida | 32953 | 100 | 502,985
Sarasota Office of Housing and Community Development | P.O. Box 1058, 1567 Main Street | Sarasota | Florida | 34230 | 50 | 312,075
Broward County Housing Authority | 1773 North State Road 7 | Lauderhill | Florida | 33313 | 100 | 667,841
Housing Authority of Tallahassee | 2940 Grady Road | Tallahassee | Florida | 32312 | 100 | 562,991
Orlando Housing Authority | 300 Reeves Court | Orlando | Florida | 32801 | 100 | 519,884
Housing Authority of Pasco County | 14517 7th Street | Dade City | Florida | 33523 | 100 | 456,850
Hialeah Housing Authority | 70 East 7th Street | Hialeah | Florida | 33010 | 100 | 610,586
Housing Authority of Palm Beach | 3432 West 45th Street | West Palm Beach | Florida | 33407 | 100 | 632,345
Housing Authority of Jonesboro | P.O. Box 458, 203 Hightower Street | Jonesboro | Georgia | 30237 | 100 | 554,562
Guam Housing and Urban Renewal Authority | 117 Bien Venida Avenue | Sinajana | Guam | 96921 | 100 | 934,691
Dupage County Illinois | 128 County Farm Road | Wheaton | Illinois | 60187 | 15 | 109,568
City of Danville Housing Authority | P.O. Box 312 | Danville | Illinois | 61834 | 15 | 51,607
Joliet Housing Authority | 6 South Broadway Street, P.O. Box 2519 | Joliet | Illinois | 60434 | 32 | 206,870
Housing Authority of the City of East St. Louis | 700 North 20th Street | East St Louis | Illinois | 62205 | 50 | 273,200
Chicago Housing Authority | 626 W. Jackson Boulevard | Chicago | Illinois | 60661 | 100 | 742,170
Housing Authority of Waukegan | 215 South Utica Street | Waukegan | Illinois | 60085 | 50 | 350,861
Fort Wayne Housing Authority-City of Fort Wayne | 2013 S. Anthony Boulevard, P.O. Box 13489 | Fort Wayne | Indiana | 46869 | 100 | 450,936
Housing Authority of New Albany | 500 Scribner Drive, P.O. Box 11 | New Albany | Indiana | 47150 | 50 | 223,052
Wichita Housing Authority | 332 N. Riverview | Wichita | Kansas | 67203 | 100 | 483,673
St. Mary's County Housing Authority | 23115 Leonard Hall Drive, P.O. Box 653 | Leonardtown | Maryland | 20650 | 50 | 302,618
Carroll County Housing & Community Development | 10 Distillery Drive, Suite | Westminster | Maryland | 21157 | 25 | 140,590
Department of Housing and Community Development | One Congress Street | Boston | Massachusetts | 02114 | 100 | 741,545
Springfield Housing Authority | P.O. Box 1609 | Springfield | Massachusetts | 01101 | 100 | 527,255
Mississippi Regional Housing Authority V | P.O. Box 419 | Newton | Mississippi | 39345 | 100 | 336,816
Lincoln County Public Housing Agency | 16 North Court Street P.O. Box 470 | Bowling Green | Missouri | 63334 | 100 | 427,204
NYS Division of Housing and Community Renewal | 25 Beaver Street | New York | New York | 10004 | 60 | 455,041
NYS Division of Housing & Community Renewal | 25 Beaver Street | New York | New York | 10004 | 40 | 155,503
Town of Amherst (BelmontShelter Corp) | 1195 Main Street | Buffalo | New York | 14209 | 100 | 428,465
New York City Housing Preservation and Development | 100 Gold Street | New York | New York | 10038 | 100 | 630,416
Housing Authority of Durham | 330 East Main Street, P.O. Box 1726 | Durham | North Carolina | 27702 | 100 | 549,267
Housing Authority of Hickory | P.O. Box 2927 | Hickory | North Carolina | 28603 | 30 | 117,175
Housing Authority of Winston-Salem | 901 Cleveland Avenue | Winton Salem | North Carolina | 27101 | 100 | 388,758
Housing Authority of Greensboro | P.O. Box 21287 | Greensboro | North Carolina | 27420 | 100 | 568,405
Zanesville Metropolitan Housing Authority | 407 Pershing Road | Zanesville | Ohio | 43701 | 50 | 182,439
Hamilton County Public Housing | 138 E. Court Street, Room | Cincinnati | Ohio | 45202 | 50 | 253,692
Lake Metropolitan Housing Authority | 189 First Street | Painesville | Ohio | 44077 | 40 | 191,884
Youngstown Metropolitan Housing Authority | 131 W. Boardman Street | Youngstown | Ohio | 44503 | 30 | 109,167
Cuyahoga Metropolitan Housing Authority | 1441 West 25th Street | Cleveland | Ohio | 44113 | 100 | 513,273
Cambridge Metropolitan Housing Authority | P.O. Box 1388 1100 Maple Court | Cambridge | Ohio | 43725 | 50 | 170,334
Lawton Housing Authority | 609 SW F Avenue | Lawton | Oklahoma | 73501 | 50 | 214,595
Oklahoma City | 1700 Northeast Fourth | Oklahoma City | Oklahoma | 73117 | 100 | 429,190
Oklahoma Housing Finance Agency | P.O. Box 26720 | Oklahoma City | Oklahoma | 73126 | 100 | 410,669
Northwest Oregon Housing Association | 1508 Exchange Street | Astoria | Oregon | 97103 | 75 | 334,566
Central Oregon Regional Housing Authority | 2445 S.W. Canal Boulevard | Redmond | Oregon | 97756 | 75 | 364,503
Philadelphia Housing Authority | 12 South 23rd Street | Philadelphia | Pennsylvania | 19103 | 100 | 700,655
Delaware County Housing Authority | 1855 Constitution Avenue | Woodlyn | Pennsylvania | 19094 | 100 | 596,733
Metropolitan Development & Housing Agency | 701 South Sixth Street | Nashville | Tennessee | 37206 | 100 | 546,169
San Angelo Housing Authority | 115 West 1st Street | San Angelo | Texas | 76903 | 25 | 89,323
Dallas Housing Authority | 3939 North Hampton Road | Dallas | Texas | 75212 | 100 | 738,560
Burlington Housing Authority | 230 St. Paul Street | Burlington | Vermont | 05401 | 100 | 588,411
Fairfax County Redevelopment & Housing Authority | 3700 Pender Drive | Fairfax | Virginia | 22030 | 35 | 274,411
Housing Authority of the City of Seattle | 120 Sixth Avenue North | Seattle | Washington | 98109 | 100 | 736,800
Housing Authority of the City of Pasco and Franklin Counties | 820 N. 1st Street | Pasco | Washington | 99301 | 50 | 250,270
Housing Authority of the County Clallam | 2603 South Francis Street | Port Angeles | Washington | 98362 | 50 | 261,315
Housing Authority of the County King | 600 Andover Park West | Tukwila | Washington | 98188 | 100 | 716,572
Huntington, West Virginia Housing Authority | P.O. Box 2183 | Huntington | West Virginia | 25722 | 100 | 386,126

Recipients of Housing Choice Vouchers—Mainstream 1 Year Funding Awards for FY 2000
Applicant name | Address | City | State | Zip | Vouchers | Amount
Mesa Housing Authority | 415 N. Pasadena | Mesa | Arizona | 85201-5916 | 75 | 369,767
Housing Authority Boca Raton | 201 West Palmetto Park Road | Boca Raton | Florida | 33432-0000 | 75 | 452,381
Hialeah Housing Authority | 70 East 7th Street | Hialeah | Florida | 33010-0000 | 75 | 458,393
Hawaii Housing and Community | 677 Queen Street, Suite 300 | Honolulu | Hawaii | 96813-0000 | 75 | 595,817
Housing Authority of Cook County | 310 S. Michigan, 15th Floor | Chicago | Illinois | 60604-4204 | 75 | 568,773
Goshen Housing Authority | 302 South 5th Street | Goshen | Indiana | 46528-0000 | 40 | 187,185
Ellis County Public Housing Authority | C/O Developmental Services of 2703 Hall, P.O. Box 1016 | Hays | Kansas | 67601-0000 | 75 | 202,427
Westbrook Housing Authority | 30 Liza Harmon Drive | Westbrook | Maine | 04092-0000 | 75 | 450,579
Wakefield Housing Authority | 26 Crescent Street | Wakefield | Massachusetts | 01880-0000 | 75 | 577,758
Methuen Housing Authority | 24 Mystic Street | Methuen | Massachusetts | 01844-0000 | 50 | 293,563
City of Las Vegas Housing Authority | 420 North 10th Street | Las Vegas | Nevada | 89101-0000 | 75 | 512,054
Albuquerque Housing Authority | 1840 University SE | Albuquerque | New Mexico | 87106-0000 | 24 | 120,518
Bernalillo County Housing Department | 620 Lomas Boulevard, NW | Albuquerque | New Mexico | 87102-0000 | 75 | 398,190
New York State Division of Housing and | 25 Beaver Street | New York | New York | 10004-0000 | 45 | 351,068
New York City Housing Authority | 250 Broadway | New York | New York | 10007-0000 | 75 | 545,977
New York State Division of Housing and | 25 Beaver Street | New York | New York | 10004-0000 | 30 | 119,041
Housing Authority Greensboro | P.O. Box 21287 | Greensboro | North Carolina | 27407-1287 | 75 | 426,304
Housing Authority Asheville | 165 S. French Broad Avenue, P.O. Box 1898 | Asheville | North Carolina | 28802-0000 | 75 | 286,688
Lexington Housing Authority | P.O. Box 1085 | Lexington | North Carolina | 27293-0000 | 50 | 188,719
Seneca Metropolitan Housing Authority | P.O Box 1029 | Mansfield | Ohio | 44901-0000 | 20 | 61,848
Dayton Metropolitan Housing Authority | 400 Wayne Avenue | Dayton | Ohio | 45401-8750 | 75 | 317,304
Central Oregon Regional Housing Authority | 2445 S.W. Canal Boulevard | Redmond | Oregon | 97756-0000 | 75 | 364,503
Housing Authority of Jackson County | 2231 Table Rock Road | Medford | Oregon | 97501-0000 | 75 | 365,213
Housing Authority of Yamhill County | 414 North East Evans Street, P.O. Box 865 | McMinnville | Oregon | 97128-0865 | 75 | 372,926
Northwest Oregon Housing Association | 1508 Exchange Street | Astoria | Oregon | 97103-0000 | 75 | 335,319
Philadelphia Housing Authority | 12 S. 23rd Street | Philadelphia | Pennsylvania | 19103-0000 | 75 | 540,434
Rhode Island Housing and Mortgage Finance | 44 Washington Street | Providence | Rhode Island | 02903-0000 | 75 | 518,740
Chattanooga Housing Authority | 505 West M.L.King Boulevard, P.O. Box 1488 | Chattanooga | Tennessee | 37401-0000 | 75 | 338,032
Knoxville Community Development Corp. | P.O. Box 3550, 901 Broadway, N.E. | Knoxville | Tennessee | 37927-3550 | 75 | 304,341
Tarrant County | 1200 Circle Drive, Suite 100 | Fort Worth | Texas | 76119-8112 | 75 | 367,412
Arlington | 501 West Sanford, Suite 20 | Arlington | Texas | 76011-0000 | 75 | 438,600
Cedar City | 2390 W. Highway 56, Suite 7 | Cedar City | Utah | 84720-0000 | 20 | 76,887
Bear River | 170 North Main | Logan | Utah | 84321-0000 | 75 | 246,659
Burlington Housing Authority | 230 St. Paul Street | Burlington | Vermont | 05401-0000 | 75 | 441,308
Accomack-Northampton Regional | 23372 Front Street, P.O Box 387 | Accomack | Virginia | 23301-0000 | 75 | 381,851
Bellingham Housing Authority | P.O. Box 9701 | Bellingham | Washington | 98227-9701 | 75 | 466,196
Housing Authority of the City of Fairmont | 517 Fairmont Avenue | Fairmont | West Virginia | 26554-0000 | 75 | 300,818
West Bend Housing Authority | 475 Meadowbrook Drive | West Bend | Wisconsin | 53090-0000 | 50 | 184,016

Recipients of Housing Choice Vouchers—Mainstream 5 Year Funding Awards for FY 2000
Applicant name | Address | City | State | Zip | Vouchers | Amount
Arizona Behavioral Health Corporation | 1406 N. Second Street | Phoenix | Arizona | 85004-0000 | 75 | $2,068,871
Pima County Housing Authority | P.O. Box 27210 | Tucson | Arizona | 85726-7210 | 50 | 1,400,660
Mohave County Housing Authority | P.O. Box 7000 | Kingman | Arizona | 86402-7000 | 50 | 1,264,815
Santa Cruz County Housing Authority | 2160 41st Avenue | Capitola | California | 95010-2060 | 75 | 3,566,880
County of Santa Clara Housing | 505 W. Julian Street | San Jose | California | 96110-0000 | 53 | 2,810,645
Colorado Bluesky Enterprises, Inc. | 115 West 2nd Street | Pueblo | Colorado | 81003-0000 | 75 | 1,886,993
Waterbury Housing Authority | 2 Lakewood Road | Waterbury | Connecticut | 06704-0000 | 75 | 2,005,226
Tallahassee Housing Authority | 2940 Grady Road | Tallahassee | Florida | 32312-0000 | 75 | 2,111,216
Housing Partnership Inc. | 319 Clematis Street, Suite 409 | West Palm Beach | Florida | 33401-0000 | 75 | 2,108,869
Pilgrim Rest Community Development Agency | P.O. Box 11 | Empire | Louisiana | 70050-0000 | 75 | 1,548,240
Peabody Housing Authority | 75 Central Street, Suite 2 | Peabody | Massachusetts | 01969-0000 | 75 | 2,810,348
Lowell Housing Authority | 350 Moody Street, P.O. Box 60 | Lowell | Massachusetts | 01853-0060 | 75 | 2,193,776
Harbor Homes, Inc. | 12 Amherst Street | Nashua | New Hampshire | 03060-0000 | 75 | 2,428,583
New Jersey Department of Community Affairs | P.O. Box 051 | Trenton | New Jersey | 08625-0051 | 66 | 2,980,868
Collaborative Support Programs of New Jersey | 11 Spring Street | Freehold | New Jersey | 07728-0000 | 75 | 3,396,893
New York Society for the Deaf | 817 Broadway—7th Floor | New York | New York | 10003-0000 | 75 | 1,894,515
Amerhert Town (Erie Co PHA Consortium) | 1195 Main Street | Buffalo | New York | 14209-0000 | 75 | 1,630,628
Hancock Metropolitan Housing Authority | 604 Lima Avenue | Findlay | Ohio | 45840-0000 | 75 | 1,243,973
Clackamas County Housing Authority | P.O. Box 1510, 13930 South Gain Street | Oregon City | Oregon | 97045-0510 | 75 | 2,158,763
Northampton County Housing Authority | 15 South Wood Street, P.O. Box 252 | Nazareth | Pennsylvania | 18064-0000 | 10 | 260,267
Carbon County Housing Authority | 215 South Third Street | Lehighton | Pennsylvania | 18235-0000 | 15 | 289,047
Housing Authority of Myrtle Beach | P.O. Box 2468 | Myrtle Beach | South Carolina | 29578-2468 | 69 | 1,518,690
Logan City | 170 N. Main | Logan | Utah | 84321-0000 | 75 | 1,385,280
Hampton Redevelopment & Housing Authority | P.O. Box 280 | Hampton | Virginia | 23669-0000 | 75 | 1,227,656
Housing Authority City of Vancouver | 2500 Main Street | Vancouver | Washington | 98660-0000 | 75 | 2,137,860

[FR Doc. 01-9044 Filed 4-12-01; 8:45 am]

BILLING CODE 4210-33-P